ENVIRONMENTAL PROTECTION AGENCY

[EPA-HQ-OPPT-2016-0021; FRL-9944-58]

Certain New Chemicals; Receipt and Status Information for February 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from February 1, 2016 to February 29, 2016.

DATES: Comments identified by the specific case number provided in this document, must be received on or before May 9, 2016.

ADDRESSES: Submit your comments, identified by docket identification (ID) number EPA-HQ-OPPT-2016-2016-0021, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from February 1, 2016 to February 29, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 37 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From February 1, 2016 to February 29, 2016
Case No. | Received date | Projected notice end date | Manufacturer importer | Use | Chemical
P-16-0044 | 2/19/2016 | 5/19/2016 | CBI | (G) Industrial coating | (G) Benzenedicarboxylic acid, polymer with alkanedioic acid, alkanediol, alkoxylated alcohol and aromatic isocyanate.
P-16-0054 | 2/19/2016 | 5/19/2016 | CBI | (S) Metal working fluid component | (S) Phosphoric acid, mixed 2-hexlydecyl and 2-hexyldodecyl and 2-octyldecyl and 2-octyldodecyl mono- and diesters.
P-16-0093 | 2/23/2016 | 5/23/2016 | CBI | (G) Ingredient for consumer products | (S) 2-cyclohexen-1-one, 2-methyl-5-propyl-
P-16-0137 | 2/2/2016 | 5/2/2016 | H.B. Fuller Company | (G) Industrial adhesive | (S) Dicarboxylic acid polymers with alkane diols and e23.
P-16-0138 | 2/2/2016 | 5/2/2016 | H.B. Fuller Company | (G) Industrial adhesive | (S) Dicarboxylic acid polymers with alkane diols and e23.
P-16-0165 | 2/19/2016 | 5/19/2016 | Dura Chemicals, Inc | (S) Ferrous propionate is a component in a metal organic product that will be used in paint and ink driers, upr promoters, lube/grease additives, fuel additives, polymerization catalysts, specialty petrochemical catalysts, etc. the amount of the ferrous propionate will be well under 1% in any final product | (S) Propanoic acid, iron (2+) salt (2:1).
P-16-0177 | 2/12/2016 | 5/12/2016 | CBI | (G) Glass coating | (G) Mixed metal oxides.
P-16-0186 | 2/18/2016 | 5/18/2016 | CBI | (G) Surfactant | (G) Sodium branched chain alkyl hydroxyl and branched chain alkenyl sulfonates.
P-16-0200 | 2/2/2016 | 5/2/2016 | Chitec Technology Co., Ltd | (G) Component of Inks | (S) 1-propanone, 1-[1,1′-biphenyl]-4-yl-2-methyl-2-(4-morpholinyl)-
P-16-0201 | 2/12/2016 | 5/12/2016 | CBI | (G) Adhesive Additive | (G) Triethoxysilyl polyurethane alkylpolyether.
P-16-0202 | 2/5/2016 | 5/5/2016 | CBI | (G) Separation Material | (G) Modified styrenic polymer (strongly and weakly basic anion exchange resin type).
P-16-0203 | 2/8/2016 | 5/8/2016 | CBI | (S) Polyurethane catalyst | (G) Pentanoic acid, compd. with polyalkylpolyamine.
P-16-0206 | 2/10/2016 | 5/10/2016 | CBI | (G) Pigment wetting and dispersing additive | (G) Formaldehyde ketone condensate polymer.
P-16-0207 | 2/10/2016 | 5/10/2016 | CBI | (G) Additive for electrolyte solution | (G) Spiro tetrafluoroborate.
P-16-0208 | 2/10/2016 | 5/10/2016 | CBI | (S) Colorant used in plastic manufacturing/recycling | (S) Carbon, calcination products with sulfur.
P-16-0208 | 2/10/2016 | 5/10/2016 | CBI | (S) Media for water filtration devices | (S) Carbon, calcination products with sulfur.
P-16-0209 | 2/10/2016 | 5/10/2016 | CBI | (G) Coating component | (G) Polymer of methylenebis[isocyantobenzene], polyether polyol, alkanepolycarboxylic acid and alkanepolyol.
P-16-0210 | 2/10/2016 | 5/10/2016 | CBI | (G) Coating component | (G) Alkanepolycarboxylic acids, polymer with alkanepolyols, benzenedicarboxylic acid, methylenebis[isocyantobenzene], mono- and polyether polyols, benzenedicarboxylic acid derivative and caprolactone.
P-16-0211 | 2/10/2016 | 5/10/2016 | CBI | (G) Coating component | (G) Polymer of alkyl acrylate, caprolactone, methylenebis[isocyanatobenzene], alkyl methacrylates, polyether polyol, alkanepolycarboxylic acid, substituted methacrylate and alkanepolyol.
P-16-0212 | 2/10/2016 | 5/10/2016 | CBI | (G) Coating component | (G) Polymer of alkanepolyols, methylenebis[isocyantobenzene], polyether polyol, alkyl methacrylates and acrylate, methacrylic acid, substitued methacrylic acid and alkanepolycarboxylic acid.
P-16-0213 | 2/10/2016 | 5/10/2016 | CBI | (G) Intermediate | (G) Polymer of substituted benzenes, alkanepolyols, alkanepolycarboxylic acids, methylenebis[isocyanatobenzene], polyether polyol, neopentyl glycol and a substituted glycol.
P-16-0214 | 2/10/2016 | 5/10/2016 | CBI | (G) Coating component | (G) Polyether polyols, polymers with substituted benzenes, methylenebis[isocyanatobenzene], alkanepolyols, caprolactone and a substituted glycol.
P-16-0215 | 2/12/2016 | 5/12/2016 | CBI | (G) Intermediate | (G) Propyl silsesquioxanes, hydrogen-terminated.
P-16-0216 | 2/16/2016 | 5/16/2016 | CBI | (G) Plastic additive | (G) Organic modified propyl silsesquioxane.
P-16-0217 | 2/15/2016 | 5/15/2016 | CBI | (G) Processing aid for ground mineral slurries (open, non dispersive use) | (G) Alkenoic acid, polymer with sodium phosphinate (1:1), mixed salt.
P-16-0220 | 2/16/2016 | 5/16/2016 | Allnex USA Inc | (S) Radiation Curing Coating Resin | (G) Alkanedioic acid, polymer with alkanediol, bis[substituted [(alkyl-oxo-alkenyl)oxy]alkyl] ester.
P-16-0221 | 2/19/2016 | 5/19/2016 | CBI | (S) Coating agent | (G) Fluorinated organopolysilazane.
P-16-0222 | 2/19/2016 | 5/19/2016 | Allnex USA Inc | (S) Radiation curing coating resin | (G) Alkanedioic acid, polymer with substituted heteromonocycle, ??-hydro-??-hydroxypoly(oxy-1,2-ethanediyl) ether with substituted alkanediol and substituted bis[carbomonocycle], alkanoate.
P-16-0223 | 2/19/2016 | 5/19/2016 | CBI | (G) Emulsion base | (G) Wax.
P-16-0224 | 2/19/2016 | 5/19/2016 | CBI | (G) Emulsifier additive | (G) Carbomonocyclic acid anhydride, polymers with polyethylene glycol, succinic anhydride monoalkenyl derivs. and succinic anhydride monopolyisobutylene derivs., esters with polyethylene glycol monoalkyl ethers.
P-16-0225 | 2/23/2016 | 5/23/2016 | International Flavors & Fragrances Inc | (S) The notified substance will be used as a fragrance ingredient, being blended (mixed) with other fragrance ingredients to make fragrance oils that will be sold to industrial and commercial customers for their incorporation into soaps, detergents, cleaners, air fresheners, candles and other similar industrial, household and consumer products | (S) Isomer mixture of cyclohexanol, 4-ethylidene-2-propoxy- (CAS 1631145-48-6) (35-45%) and cyclohexanol, 5-ethylidene-2-propoxy (CAS 1631145-49-7) (45-55%).
P-16-0227 | 2/23/2016 | 5/23/2016 | CBI | (G) Adhesive component | (G) Cashew nutshell liquid, polymer with diisocyanatoalkane, substituted, substituted-polyoxyalkyldiyl, hydroxy-terminated polybutadiene and 4,4′-(1-methylethylidene)bis[2-(2-propen-1-yl)phenol].
P-16-0228 | 2/24/2016 | 5/24/2016 | CBI | (G) ProcessingaAid | (G) Derivative of a glycerol, alkanoic acid and mixed fatty acids polymer.
P-16-0229 | 2/24/2016 | 5/24/2016 | CBI | (S) Industrial intermediate | (G) N-methyl- (amino, chloro, methyl) carbomonocylcic carbamide.
P-16-0230 | 2/25/2016 | 5/25/2016 | CBI | (G) Photolithography | (G) Hydroxystyrene resin.
P-16-0231 | 2/25/2016 | 5/25/2016 | Wacker Chemical Corporation | (G) Functional polymer used in industrial/commercial sealants, adhesives and coatings | (G) Polysiloxane with functional groups.
P-16-0235 | 2/29/2016 | 5/29/2016 | CBI | (S) Construction adhesive | (G) Polymeric methylene diphenyldiisocyanate, polymer with oxyalkyl diol, methacrylate blocked.

For the 25 NOCs received by EPA during this period, Table 3 provides the following information (to the extent that such information is not claimed as CBI): The EPA Case number assigned to the NOC; the date the NOC was received by EPA; the projected date of commencement provided by the submitter in the NOC; and the chemical identity.

Table 2—NOCs Received from February 1, 2016 to February 29, 2016
Case No. | Received date | Commencement date | Chemical
P-05-0666 | 2/15/2016 | 11/5/2003 | (S) Poly[oxy (methyl-1,2-ethanediyl)], alpha, alpha′, alpha″-1,2,3-propanetriyltris [omega-hydroxy-, polymer with alpha-hydro-omega hydroxypoly [oxy(methyl-1,2-ethanediyl)], 5-isocyanato-1-(isocyanatomethyl )-1,3,3-trimethylcyclohexane and 1,1′-methylenebis[isocyanatobenzene ].
P-07-0564 | 2/15/2016 | 1/20/2016 | (S) Fatty acid c18-unsatd, polymers with diethylenetriamine and maleic anhydride.
P-13-0338 | 2/1/2016 | 1/27/2016 | (S) Hexanedioic acid, polymer with 1,6-hexanediol and 1-isocyanato-2-[(4-isocyanatophenyl)methyl]benzene.
P-14-0300 | 2/19/2016 | 12/8/2015 | (G) Substituted polysiloxane.
P-14-0324 | 2/17/2016 | 2/15/2016 | (G) Fatty ester derivatives, reaction products with alkanolamine, hydroxylated, borated.
P-14-0665 | 2/11/2016 | 1/14/2016 | (S) Benzoic acid, 4-(benzoylamino)-.
P-14-0750 | 2/19/2016 | 1/20/2016 | (G) Formic acid salts, compds. with epoxy-cycloalkylamine-polymer-hydrolyzed amino-1,2-alkanediamine-(alkylamino)alcohol reaction products.
P-15-0295 | 2/15/2016 | 2/10/2016 | (G) Hydrocarbon ester acrylate modified particle.
P-15-0440 | 2/4/2016 | 2/1/2016 | (G) Hetero substituted alkyl acrylate polymer.
P-15-0485 | 2/4/2016 | 1/20/2016 | (G) Bismuth compound.
P-15-0503 | 2/8/2016 | 12/9/2015 | (S) 2-oxepanone, polymer with 1,4-diisocyanatobenzene, 2,2-dimethyl-1,3-propanediol and 2,2′-[1,4-phenylenebis(oxy)]bis[ethanol].
P-15-0596 | 2/19/2016 | 11/16/2015 | (G) Methyl alkaryl methyl hygrogen cyclosiloxanes.
P-15-0637 | 2/26/2016 | 2/25/2016 | (S) Cyclopropanemethanol, a,1-dimethyl-2-(1-phenylethyl)-.
P-15-0702 | 2/1/2016 | 1/27/2016 | (G) Modified polyethyleneglycol diacrylate salt with acidic polyethylene ester.
P-15-0710 | 2/16/2016 | 1/19/2016 | (G) Carboxylic acid polymer ester with alpha-methyl-omega-hydroxypoly (oxy-1,2-ethanediyl).
P-15-0728 | 2/26/2016 | 2/25/2016 | (S) Benzenemethanol, 3-ethoxy-4-hydroxy.
P-15-0759 | 2/18/2016 | 1/26/2016 | (S) Carbonic acid, dimethyl ester, polymer with bis(isocyanatomethyl)cyclohexane and 1,6-hexanediol.
P-15-0768 | 2/8/2016 | 2/4/2016 | (G) Alkanedial, polymer with alkyleneurea and alkyl-alkanediol.
P-16-0018 | 2/10/2016 | 2/9/2016 | (G) Polyethyleneglycol modified polyacrylate, compd. with alcohol amine.
P-16-0019 | 2/10/2016 | 2/9/2016 | (G) Polyethyleneglycol modified polyacrylate, compd. with alcohol amine.
P-16-0023 | 2/5/2016 | 2/2/2016 | (G) 2-propenenitrile, reaction products with polyalkylenepolyamine, hydrogenated.
P-16-0024 | 2/19/2016 | 1/12/2016 | (G) Alkylamine—modifided silane.
P-16-0039 | 2/19/2016 | 2/16/2016 | (G) Alkyl acrylate-alkyl acrylamide copolymer.
P-16-0049 | 2/24/2016 | 2/12/2016 | (G) High oleic algae oil ethoxylate.
P-16-0050 | 2/24/2016 | 2/12/2016 | (G) High lauric algae oil ethoxylate s2014.

Authority: 15 U.S.C. 2601 et seq.

Dated: April 4, 2016.
Megan Carroll,
Acting Information Management Division, Office of Pollution Prevention and Toxics.

[FR Doc. 2016-08135 Filed 4-7-16; 8:45 am]

BILLING CODE 6560-50-P